INTERNATIONAL TRADE COMMISSION

[Inv. No. 337-TA-698; (Enforcement Proceeding)]

In the Matter of Certain DC-DC Controllers and Products Containing Same; Notice of Institution of Formal Enforcement Proceeding

AGENCY: U.S. International Trade Commission.

ACTION: Notice.

SUMMARY: Notice is hereby given that the U.S. International Trade Commission has instituted a formal enforcement proceeding relating to the August 13, 2010, consent orders issued in the above-captioned investigation.

FOR FURTHER INFORMATION CONTACT: Clint A. Gerdine, Esq., Office of the General Counsel, U.S. International Trade Commission, 500 E Street, SW., Washington, DC 20436, telephone (202) 205-3061. Copies of all nonconfidential documents filed in connection with this investigation are or will be available for inspection during official business hours (8:45 a.m. to 5:15 p.m.) in the Office of the Secretary, U.S. International Trade Commission, 500 E Street, SW., Washington, DC 20436, telephone 202-205-2000. General information concerning the Commission may also be obtained by accessing its Internet server (http://www.usitc.gov). The public record for this investigation may be viewed on the Commission's electronic docket (EDIS) at http://edis.usitc.gov/. Hearing-impaired persons are advised that information on the matter can be obtained by contacting the Commission's TDD terminal on 202-205-1810.

SUPPLEMENTARY INFORMATION: The Commission instituted the original investigation on December 29, 2009, based on a complaint filed by Richtek Technology Corp. of Taiwan and Richtek USA, Inc. of San Jose, California (collectively “Richtek”). 75 FR 446-47. The complaint, as amended, alleged violations of section 337 of the Tariff Act of 1930, as amended, 19 U.S.C. 1337, in the importation into the United States, the sale for importation, and the sale within the United States after importation of certain DC-DC controllers and products containing the same by reason of infringement of certain claims of U.S. Patent Nos. 7,315,190; 6,414,470; and 7,132,717; and by reason of trade secret misappropriation. The Commission's notice of investigation named the following respondents: VisionTek Products LLC (“VisionTek”) of Inverness, Illinois; uPI Semiconductor Corp. (“uPI”) of Taiwan; Sapphire Technology Limited (“Sapphire”) of Hong Kong; Advanced Micro Devices, Inc. of Sunnyvale, California; Best Data Products d/b/a Diamond Multimedia of Chatsworth, California; Eastcom, Inc. d/b/a XFX Technology USA of Rowland Heights, California; Micro-Star International Co., Ltd. of Taiwan; and MSI Computer Corp. of City of Industry, California.

On August 13, 2010, the Commission issued notice of its determination not to review the presiding administrative law judge's (“ALJ”) initial determination (“ID”) granting uPI's and Sapphire's joint motion to terminate the investigation as to themselves based on consent orders. The consent orders prohibit the importing, offering for sale, and selling for importation DC-DC controllers, or products containing the same, into the United States that infringe the asserted patents or that contain or use the asserted trade secrets. Subsequently, on October 21, 2010, the Commission issued notice of its determination not to review the ALJ's ID granting a joint motion to terminate the investigation as to VisionTek based on a settlement agreement and terminating the investigation in its entirety because VisionTek was the sole respondent remaining in the investigation, the others having been terminated based on settlement agreements or consent orders during the investigation.

On July 21, 2011, Richtek filed a complaint for enforcement proceedings under Commission Rule 210.75. Richtek asserts that uPI and Sapphire have violated the August 13, 2010 consent orders by the continued practice of prohibited activities such as importing, offering for sale, and selling for importation into the United States DC-DC controllers or products containing the same that infringe the asserted patents or that contain or use the asserted trade secrets.

Having examined the complaint seeking a formal enforcement proceeding, and having found that the complaint complies with the requirements for institution of a formal enforcement proceeding contained in Commission rule 210.75, the Commission has determined to institute formal enforcement proceedings to determine whether uPI and/or Sapphire are in violation of the August 13, 2010 consent orders issued in the investigation, and what, if any, enforcement measures are appropriate. The following entities are named as parties to the formal enforcement proceeding: (1) Richtek, (2) respondents uPI and Sapphire, and (3) the Office of Unfair Import Investigations.

The authority for the Commission's determination is contained in section 337 of the Tariff Act of 1930, as amended (19 U.S.C. 1337), and in section 210.75 of the Commission's Rules of Practice and Procedure (19 CFR 210.75).

By order of the Commission.
Issued: August 30, 2011.
James R. Holbein,
Secretary to the Commission.

[FR Doc. 2011-22640 Filed 9-2-11; 8:45 am]

BILLING CODE 7020-02-P